DEPARTMENT OF COMMERCE

Foreign-Trade Zones Board

[B-77-2018]

Foreign-Trade Zone (FTZ) 168—Dallas/Fort Worth, Texas, Authorization of Production Activity, Gulfstream Aerospace Corporation (Disassembly of Aircraft), Dallas, Texas

On December 7, 2018, the Metroplex International Trade Development Corporation, grantee of FTZ 168, submitted a notification of proposed production activity to the FTZ Board on behalf of Gulfstream Aerospace Corporation, within Subzone168E, in Dallas, Texas.

The notification was processed in accordance with the regulations of the FTZ Board (15 CFR part 400), including notice in the Federal Register inviting public comment (83 FR 64517-64518, December 17, 2018). On May 16, 2019, the applicant was notified of the FTZ Board's decision that no further review of the activity is warranted at this time. The production activity described in the notification was authorized, subject to the FTZ Act and the FTZ Board's regulations, including Section 400.14.

Dated: May 16, 2019.
Andrew McGilvray,
Executive Secretary.

[FR Doc. 2019-10806 Filed 5-22-19; 8:45 am]

BILLING CODE 3510-DS-P